DEPARTMENT OF COMMERCE

International Trade Administration

Amendment to Notice of Establishment of the Advisory Committee on Supply Chain Competitiveness and Solicitation of Nominations for Membership

AGENCY: International Trade Administration, Department of Commerce.

ACTION: Amendment to notice of establishment of the Advisory Committee on Supply Chain Competitiveness and solicitation of nominations for membership.

SUMMARY: The Under Secretary of Commerce for International Trade announced in the November 3, 2011, Federal Register the establishment of the Advisory Committee on Supply Chain Competitiveness (the Committee) by the Secretary of Commerce and the solicitation of nominations for membership on the Committee (see 76 FR 68159). This amendment clarifies the scope of the Committee's work and the nominations being sought for the Committee, and extends the deadline for nominations.

The Committee shall advise the Secretary on the necessary elements of a comprehensive, holistic national freight infrastructure and a national freight policy designed to support U.S. export growth and competitiveness, foster national economic competitiveness, and improve U.S. supply chain competitiveness in the domestic and global economy.

DATES: Nominations for members must be received on or before January 6, 2012.

ADDRESSES: Richard Boll, Office of Service Industries, Room CC307, U.S. Department of Commerce, 1401 Constitution Avenue NW., Washington, DC 20230; phone 202-482-1135; email: richard.boll@trade.gov.

FOR FURTHER INFORMATION CONTACT: Richard Boll, Office of Service Industries, Room CC307, U.S. Department of Commerce, 1401 Constitution Avenue NW., Washington, DC 20230; phone 202-482-1135; email: richard.boll@trade.gov.

SUPPLEMENTARY INFORMATION:

I. Background and Authority

The Committee was established on November 21, 2011, for a two-year term under the discretionary authority of the Secretary, in response to an identified need for consensus advice from U.S. firms, associations, community organizations, and others directly affected by the supply chain, as well as experts from academia to the U.S. government on the necessary elements of a comprehensive, holistic national freight infrastructure and a national freight policy designed to support U.S. export growth and competitiveness, foster national economic competitiveness, and improve U.S. supply chain competitiveness in the domestic and global economy. The Federal Advisory Committee Act (5 U.S.C. App.) governs the Committee and sets forth standards for the formation and use of advisory committees.

The Committee shall provide detailed policy and technical advice, information, and recommendations to the Secretary regarding:

• National, state, or local factors that inhibit the efficient domestic and international movement of goods from point of origin to destination, and the competitiveness of domestic and international supply chains;

• Infrastructure capacity, inter- and cross-modal connectivity, investment, regulatory, and intra- or inter-governmental coordination factors that affect supply chain competitiveness, goods movement, and sustainability;

• Emerging trends in goods movement that affect supply chain competitiveness; and

• Metrics that can be used to quantify supply chain performance.

II. Structure, Membership, and Operation

The Committee shall consist of a maximum of 40 private sector members appointed by the Secretary in accordance with applicable Department of Commerce guidance and based on their ability to carry out the objectives of the Committee. These members shall represent a balanced and broad range of interests, including representatives from supply chain firms or their associations (including shippers and all modes of freight transportation (trucking, rail, maritime, and air)), stakeholders, community organizations, and others directly affected by the supply chain, as well as experts from academia. Membership shall reflect the diversity of goods and services movement activities, including a variety of users that ship through the global supply chain, entities that operate various parts of the supply chain, and individual academic experts in the field. Membership will also be diverse in terms of organization size, and geographic location. Appointments will be made without regard to political affiliation. In addition to the private sector members, the Secretary of Transportation and the Administrator of the Environmental Protection Agency (EPA) (or their respective designees) will serve on the Committee as ex officio, non-voting members. The Secretary will consult with the Department of Transportation, EPA, and other agencies as appropriate in making appointments of private sector members.

The Committee chair and vice chair or vice chairs shall be selected from the members of the Committee by the Assistant Secretary for Manufacturing and Services after consulting with the members. The International Trade Administration may authorize subcommittees as needed, subject to the provisions of FACA, the FACA implementing regulations, and applicable Department of Commerce guidance. Subcommittees must report to the Committee and must not provide advice or work products directly to the Secretary. The Assistant Secretary for Manufacturing and Services shall appoint a Designated Federal Officer (DFO), as well as a Secondary DFO, from among the employees of the Department of Commerce. The DFO or Secondary DFO will be present at all meetings and will approve or call all of the advisory committee meetings and the meetings of any subcommittees; prepare and approve all meeting agendas; adjourn any meeting when the DFO or Secondary DFO; and chair meetings when directed to do so by the Assistant Secretary for Manufacturing and Services.

Nominations

The Secretary of Commerce invites nominations to the Committee for the charter term beginning November 21, 2011, for appointments for a two-year term concurrent with the charter term. Members will be selected, in accordance with applicable Department of Commerce guidelines, based upon their ability to advise the Secretary of Commerce on the necessary elements of a comprehensive, holistic national freight infrastructure and a national freight policy designed to support U.S. export growth and competitiveness, foster national economic competitiveness, and improve U.S. supply chain competitiveness in the domestic and global economy. Members shall represent a balanced and broad range of interests, including representatives from supply chain firms or their associations (including shippers and all modes of freight transportation (trucking, rail, maritime, and air)), stakeholders, community organizations, and others directly affected by the supply chain as well as experts from academia. The membership should reflect the general composition of the U.S. supply chain industry. Other than the experts from academia, all members shall serve in a representative capacity, expressing their views and interests of a U.S. entity or organization, as well as its particular sector. Members serving in such a representative capacity are not Special Government Employees. The members from academia serve as experts and therefore are Special Government Employees (SGEs) and shall be subject to the ethical standards applicable to SGEs.

Each private sector member of the Committee must be a U.S. citizen, not a federally-registered lobbyist, and not registered as a foreign agent under the Foreign Agents Registration Act. All appointments are made without regard to political affiliation. Self-nominations will be accepted. Members of the Committee will not be compensated for their services or reimbursed for their travel expenses. The Committee shall meet as often as necessary as determined by the DFO, but not less than once per year.

Members shall serve at the pleasure of the Secretary from the date of appointment to the Committee to the date on which the Committee's charter terminates.

All nominations to become a member of the Committee should provide the following information:

(1) Name, title, and relevant contact information (including phone, fax, and email address) of the individual requesting consideration;

(2) An affirmative statement that the applicant is not required to register as a foreign agent under the Foreign Agents Registration Act of 1938;

(3) An affirmative statement that the applicant is not a federally-registered lobbyist, and that the applicant understands that if appointed, the applicant will not be allowed to continue to serve as a Committee member if the applicant becomes a federally-registered lobbyist; and

In addition to the above requirements for all nominations, nominations for representatives from supply chain firms or their associations, stakeholders, community organizations, and others directly affected by the supply chain, should also provide the following information:

(1) A sponsor letter on the firm's, association's, community organization's or other entity's letterhead containing a brief description why the nominee should be considered for membership;

(2) Short biography of nominee including credentials; and

(3) Brief description of the firm, association, community organization, or other entity to be represented and its activities and size (number of employees or members and annual sales, if applicable);

(4) An affirmative statement that the applicant meets all Committee eligibility requirements for representative members, including that the applicant represents a U.S. company or U.S. organization.

a. For purposes of Committee eligibility, a U.S. company is at least 51 percent owned by U.S. persons.

b. For purposes of Committee eligibility, a U.S. organization is controlled by U.S. persons, as determined based on its board of directors (or comparable governing body), membership, and funding sources, as applicable.

In addition to the above requirements for all nominations, nominations for experts from academia should also provide the following information:

(1) A description of the nominee's area(s) of expertise;

(2) A concise Curriculum Vitae (CV) or resume that covers education, experience, and relevant publications and summarizes how this expertise addresses supply chain competitiveness; and

(3) An affirmative statement that the applicant meets all Committee eligibility requirements.

Please do not send firm, association, or community organization brochures.

Nominations may be emailed to: richard.boll@trade.gov or faxed to the attention of Richard Boll at 202-482-2669, or mailed to Richard Boll, Office of Service Industries, Room CC307, U.S. Department of Commerce, 1401 Constitution Avenue NW., Washington, DC 20230, and must be received before January 6, 2012. Nominees selected for appointment to the Committee will be notified.

Dated: December 8, 2011.
David Long,
Director, Office of Service Industries.

[FR Doc. 2011-32096 Filed 12-13-11; 8:45 am]

BILLING CODE P